NUCLEAR REGULATORY COMMISSION

Draft Regulatory Guide: Issuance, Availability

AGENCY: Nuclear Regulatory Commission.

ACTION: Issuance, Availability of Draft Regulatory Guide (DG)-1194.

FOR FURTHER INFORMATION CONTACT: M. Lintz, U.S. Nuclear Regulatory Commission, Washington, DC 20555-0001, telephone: (301) 415-4051 or e-mail: MPL2@nrc.gov.

SUPPLEMENTARY INFORMATION:

I. Introduction

The U.S. Nuclear Regulatory Commission (NRC) has issued for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide entitled “Guidance to Operators at the Controls and to Senior Operators in the Control Room of a Nuclear Power Unit” is temporarily identified by its task number, DG-1194, which should be mentioned in all related correspondence.

This guide describes staffing practices and methods generally considered by the NRC to be satisfactory for complying with the Commission's regulations that require the presence of an operator at the controls of a nuclear power unit and a senior operator in the control room. These practices and methods are the result of NRC review of operating experience and they reflect the latest methods and approaches acceptable to the NRC staff. If future information results in alternative methods, the NRC staff will review such methods to determine their acceptability.

II. Further Information

The NRC staff is soliciting comments on DG-1194. Comments may be accompanied by relevant information or supporting data, and should mention DG-1194 in the subject line. Comments submitted in writing or in electronic form will be made available to the public in their entirety through the NRC's Agencywide Documents Access and Management System (ADAMS).

Personal information will not be removed from your comments. You may submit comments by any of the following methods:

1. Mail comments to: Rulemaking, Directives, and Editing Branch, Office of Administration, U.S. Nuclear Regulatory Commission, Washington, DC 20555-0001.

2. E-mail comments to: NRCREP@nrc.gov.

3. Hand-deliver comments to: Rulemaking, Directives, and Editing Branch, Office of Administration, U.S. Nuclear Regulatory Commission, 11555 Rockville Pike, Rockville, Maryland 20852, between 7:30 a.m. and 4:15 p.m. on Federal workdays.

4. Fax comments to: Rulemaking, Directives, and Editing Branch, Office of Administration, U.S. Nuclear Regulatory Commission at (301) 415-5144.

Requests for technical information about DG-1194 may be directed to the NRC Senior Program Manager, M. Lintz, at (301) 415-4051 or e-mail at MPL2@NRC.Gov.

Comments would be most helpful if received by June 6, 2008. Comments received after that date will be considered if it is practical to do so, but the NRC is able to ensure consideration only for comments received on or before this date. Although a time limit is given, comments and suggestions in connection with items for inclusion in guides currently being developed or improvements in all published guides are encouraged at any time.

Electronic copies of DG-1194 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML080220459.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to PDR@nrc.gov.

Regulatory guides are not copyrighted, and Commission approval is not required to reproduce them.

Dated at Rockville, Maryland, this 31st day of March, 2008.
For the Nuclear Regulatory Commission.
Andrea D. Valentin,
Chief, Regulatory Guide Development Branch, Division of Engineering, Office of Nuclear Regulatory Research.

[FR Doc. E8-7053 Filed 4-3-08; 8:45 am]

BILLING CODE 7590-01-P